DEPARTMENT OF TRANSPORTATION

Federal Aviation Administration

14 CFR Part 39

[Docket No. 2003-CE-41-AD; Amendment 39-13339; AD 2003-21-04]

RIN 2120-AA64

Airworthiness Directives; Cessna Aircraft Company Models 208 and 208B Airplanes

AGENCY: Federal Aviation Administration (FAA), DOT.

ACTION: Final rule; request for comments.

SUMMARY: The FAA is adopting a new airworthiness directive (AD) for certain Cessna Aircraft Company (Cessna) Models 208 and 208B airplanes. This AD requires you to inspect the right inboard forward flap bell crank for cracks, deformation, and missing/incomplete welds. If cracks, deformation, or missing/incomplete welds are found, the AD would require you to immediately replace the flap bell crank or temporarily incorporate certain flap limitations. This AD is the result of reports of cracks and missing/incomplete welds in the right inboard forward flap bell crank. We are issuing this AD to prevent failure of the right inboard forward flap bell crank due to cracks, deformation, or missing/incomplete welds. Such failure could lead to damage to the flap system and surrounding structure and result in reduced or loss of control of the airplane.

DATES: This AD becomes effective on October 21, 2003.

The Director of the Federal Register approved the incorporation by reference of certain publications listed in the regulation as of October 21, 2003.

We must receive any comments on this AD by December 15, 2003.

ADDRESSES: Use one of the following to submit comments on this AD:

• By mail: FAA, Central Region, Office of the Regional Counsel, Attention: Rules Docket No. 2003-CE-41-AD, 901 Locust, Room 506, Kansas City, Missouri 64106.

• By fax: (816) 329-3771.

• By e-mail: 9-ACE-7-Docket@faa.gov. Comments sent electronically must contain “Docket No. 2003-CE-41-AD” in the subject line. If you send comments electronically as attached electronic files, the files must be formatted in Microsoft Word 97 for Windows or ASCII.

You may get the service information identified in this AD from Cessna Aircraft Company, Product Support, P.O. Box 7706, Wichita, Kansas 67277; telephone: (316) 517-5800; facsimile: (316) 942-9006. You may also view this information at the Rules Docket at the address above.

You may view the AD docket at FAA, Central Region, Office of the Regional Counsel, Attention: Rules Docket No. 2003-CE-41-AD, 901 Locust, Room 506, Kansas City, Missouri 64106. Office hours are 8 a.m. to 4 p.m., Monday through Friday, except Federal holidays.

FOR FURTHER INFORMATION CONTACT: Paul Nguyen, Aerospace Engineer, FAA, Wichita Aircraft Certification Office ACO, 1801 Airport Road, Room 100, Wichita, Kansas 67209; telephone: 316-946-4125; facsimile: 816-946-4107.

SUPPLEMENTARY INFORMATION:

Discussion

What events have caused this AD? The FAA has received reports that the right inboard forward flap bell crank on Cessna Models 208 and 208B airplanes could have missing/incomplete welds. Without complete welds, the flap bell cranks may not have sufficient strength or fatigue endurance to carry critical load with the use of flaps. This could result in cracking or deformation of the flap bell crank and lead to failure of the flap system.

What are the consequences if the condition is not corrected? Failure of the flap system, if not prevented, could lead to damage to the flap system and surrounding structure and result in reduced or loss of control of the airplane.

Is there service information that applies to this subject? Cessna issued Caravan Service Bulletin CAB03-11, Revision 1, dated September 24, 2003.

What are the provisions of this service information? The service bulletin includes procedures for inspecting all the flap system flap bell cranks for cracks, deformation, and missing/incomplete welds. If cracks, deformation, or missing/incomplete welds are found, this service bulletin specifies either:

—Replacing the subject flap bell crank; or

—Incorporating Temporary Revision 208PHTR02, dated September 23, 2003, to the Other Limitations section of the Pilot's Operating Handbook (POH). This is a temporary option and replacing the subject flap bell crank is mandatory within a certain time frame.

FAA's Determination and Requirements of the AD

What has FAA decided? We have evaluated all pertinent information and identified an unsafe condition that is likely to exist or develop on other products of this same type design.

Since the unsafe condition described previously is likely to exist or develop on other Cessna Models 208 and 208B airplanes of the same type design, this AD is being issued to prevent failure of the right inboard forward flap bell crank due to cracks, deformation, or missing/incomplete welds.

What does this AD require? This AD requires you to inspect the right inboard forward flap bell crank for cracks, deformation, and missing/incomplete welds. If cracks, deformation, or missing/incomplete welds are found, the AD would require you to immediately replace the flap bell crank or temporarily incorporate certain flap limitations.

In preparation of this rule, we contacted type clubs and aircraft operators to obtain technical information and information on operational and economic impacts. We did not receive any information through these contacts. If received, we would have included, in the rulemaking docket, a discussion of any information that may have influenced this action.

Are there differences between the service information and this AD? Yes. The service information requires an inspection on all flap bell cranks within the flap system. However, this AD only addresses the right inboard forward flap bell crank.

To date, FAA has only received reports on the right inboard forward flap bell cranks, and we are addressing this issue through a final rule; request for comments (immediately adopted rule) AD action. After issuing this AD, we will evaluate the condition of the entire flap system and determine whether additional action is necessary.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment prior to the issuance of the rule? This AD is a final rule that involves requirements affecting flight safety and was not preceded by notice and an opportunity for public comment; however, we invite you to submit any written relevant data, views, or arguments regarding this AD. Send your comments to an address listed under ADDRESSES. Include “AD Docket No. 2003-CE-41-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-41-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-21-04 Cessna Aircraft Company: Amendment 39-13339; Docket No. 2003-CE-41-AD.

When Does This AD Become Effective?

(a) This AD becomes effective on October 21, 2003.

Are Any Other ADs Affected by This Action?

(b) None.

What Airplanes Are Affected by This AD?

(c) This AD affects the following airplane models and serial numbers that are certificated in any category:

Model | Serial No.
208 | 20800001 through 20800369.
208B | 208B0001 through 208B1014, 208B1017, 208B1018, 208B1020 through 208B1024, 208B1026, and 208B1029 through 208B1033.

What Is the Unsafe Condition Presented in This AD?

(d) This AD is the result of reports of cracks and missing/incomplete welds in the right inboard forward flap bell crank. We are issuing this AD to prevent failure of the right inboard forward flap bell crank due to cracks, deformation, or missing/incomplete welds. Such failure could lead to damage to the flap system and surrounding structure and result in reduced or loss of control of the airplane.

What Must I Do To Address This Problem?

(e) To address this problem, you must accomplish the following, unless already accomplished (compliance with Cessna Caravan Service Bulletin CAB03-11, Revision 1, dated September 24, 2003):

Actions | Compliance | Procedures
(1) Inspect the right inboard forward flap bell crank assembly for cracks, deformation, and missing/incomplete welds. The affected flap bell crank incorporates one of the following part numbers (P/N): (i) P/N 2622083-18; (ii) P/N 2622281-2; (iii) P/N 2692001-2; or (iv) P/N 2622281-12. | Within the next 25 landings after October 21, 2003 (the effective date of this AD). If landings are unknown, then you may multiply hours time-in-service (TIS) by 1.25. For the purposes of this AD, you may substitute 20 hours TIS for 25 landings. | Use a flashlight and a mirror as necessary to see if welds (1), (4), (5), and (6) exist and are at least 0.06-inch thick around the full circumference of the shaft. These welds and the inspection procedures are referenced in Figure 1, details A, B, and C; and Views A-A and B-B of Cessna Caravan Service Bulletin CAB03-11, Revision 1, dated September 24, 2003.
(2) If you find cracks, deformation, or missing/incomplete welds during the inspection required by paragraph (e)(1) of this AD, then accomplish one of the following: (i) Replace the flap bell crank with a P/N 2622311-7 flap bell crank; or (ii) Prohibit the use of flaps through the actions of paragraph (f) of this AD. | Replace or do the flap prohibition actions prior to further flight after the inspection required in paragraph (e)(1) of this AD. If you choose the flap prohibition, you must have the replacement done within 200 hours TIS after the inspection required by paragraph (e)(1) of this AD. After the new flap bell crank (2622311-7) is installed, the Temporary Revision 208PHTR02, dated September 23, 2003, should be removed. | Replacement: Use the Accomplishment Instructions of Cessna Caravan Service Bulletin No.: CAB02-12, Revision 1, dated January 27, 2003, and the Accomplishment Instructions of Cessna Caravan Service Kit No.: SK208-148A, dated January 27, 2003. Flap Prohibition: Use the information in the Temporary Revision 208PHTR02, dated September 23, 2003. The action is referenced in Cessna Caravan Service Bulletin CAB03-11, Revision 1, dated September 24, 2003.

What Are the Actions I Must Do if I Choose the Flap Prohibition Option?

(f) Insert Temporary Revision, 208PHTR02, dated September 23, 2003, into the applicable pilot's operating handbook and FAA-approved airplane flight manual. The owner/operator holding at least a private pilot certificate as authorized by section 43.7 of the Federal Aviation Regulations (14 CFR 43.7) may incorporate this information into the AFM. Make an entry into the aircraft records showing compliance with this portion of the AD in accordance with § 43.9 of the Federal Aviation Regulations (14 CFR 43.9).

(1) This procedure applies to Cessna Models 208 and 208B landplanes. For other FAA-approved aircraft configurations (e.g., amphibian, floatplanes, etc.), you must operate with flaps up per the appropriate airplane flight manual supplement.

(2) This procedure allows for applicable deviation from the Master Minimum Equipment List (MMEL) for these airplanes until the flap bell crank is replaced. The applicable MMEL requirements go back into effect at the time of flap bell crank replacement.

Are There Differences Between the Service Information and This AD?

(g) Yes. The service information requires an inspection on all flap bell cranks within the flap system. However, this AD only addresses the right inboard forward flap bell crank. To date, FAA has only received reports on the right inboard forward flap bell cranks, and we are addressing this issue through a final rule; request for comments (immediately adopted rule) AD action. After issuing this AD, we will evaluate the condition of the entire flap system and determine whether additional action is necessary.

What About Alternative Methods of Compliance?

(h) You may request a different method of compliance or a different compliance time for this AD by following the procedures in 14 CFR 39.13. Send your request to the Manager, Wichita Aircraft Certification Office (ACO). For information on any already approved alternative methods of compliance, contact Paul Nguyen, Aerospace Engineer, FAA, Wichita ACO, 1801 Airport Road, Room 100, Wichita, Kansas 67209; telephone: 316-946-4125; facsimile: 816-946-4107.

Is There Material Incorporated by Reference?

(i) You must do the actions required by this AD per Cessna Caravan Service Bulletin CAB03-11, Revision 1, dated September 24, 2003; Cessna Caravan Service Bulletin No.: CAB02-12, Revision 1, dated January 27, 2003; and Cessna Caravan Service Kit No.: SK208-148A, dated January 27, 2003 (Original issue: October 21, 2002). The Director of the Federal Register approved the incorporation by reference of this service bulletin in accordance with 5 U.S.C. 552(a) and 1 CFR part 51. You may get a copy from Cessna Aircraft Company, Product Support, P.O. Box 7706, Wichita, Kansas 67277; telephone: (316) 517-5800; facsimile: (316) 942-9006. You may review copies at FAA, Central Region, Office of the Regional Counsel, 901 Locust, Room 506, Kansas City, Missouri 64106; or at the Office of the Federal Register, 800 North Capitol Street, NW., suite 700, Washington, DC.

Issued in Kansas City, Missouri, on October 8, 2003.
James E. Jackson,
Acting Manager, Small Airplane Directorate, Aircraft Certification Service.

[FR Doc. 03-26115 Filed 10-16-03; 8:45 am]

BILLING CODE 4910-13-U